DEPARTMENT OF HEALTH AND HUMAN SERVICES

Centers for Medicare & Medicaid Services

[CMS-5514-N2]

Medicare Program; Oncology Care Model: Request for Applications; Extension of the Submission Deadline for Applications

AGENCY: Centers for Medicare & Medicaid Services (CMS), HHS.

ACTION: Notice.

SUMMARY: This notice extends the application submission deadline for organizations to participate in the Oncology Care Model (OCM) beginning in 2016. The new deadline for receipt of online applications from payers and practices is 5:00 p.m. Eastern Daylight Time (EDT) on June 30, 2015. Only those payers and practices that submitted timely, complete Letters of Intent (LOIs) are eligible to apply to participate in OCM, and only the submission of web-based applications will be accepted.

DATES: Application Submission Deadline: Applications for payers and practices must be received by 5:00 p.m. Eastern Daylight Time (EDT) on June 30, 2015. Application materials and instructions are available at http://innovation.cms.gov/initiatives/Oncology-Care/.

FOR FURTHER INFORMATION CONTACT: OncologyCareModel@cms.hhs.gov for questions regarding the application process of OCM.

SUPPLEMENTARY INFORMATION:

I. Background

The Oncology Care Model (OCM) aims to improve health outcomes for people with cancer, improve the quality of cancer care, and reduce spending for cancer treatment. We expect that physician practices selected for participation in the model will be able to transform care delivery for their patients undergoing chemotherapy, leading to improved quality of care for beneficiaries at a decreased cost to payers. Through this care transformation, practices participating in OCM can reduce Medicare expenditures while improving cancer care for Medicare Fee-for-Service beneficiaries. Beneficiaries can experience improved health outcomes when health care providers work in a coordinated and person-centered manner. We are interested in partnering with payers and practitioners who are working to redesign care to deliver these aims.

The Request for Applications (RFA) requests applications to test the model, which is centered around a chemotherapy episode of care. For more details, see the RFA and related informational materials available on the Center for Medicare and Medicaid Innovation (Innovation Center) Web site at http://innovation.cms.gov/initiatives/Oncology-Care/.

On February 17, 2015, we published a notice in the Federal Register announcing the RFA for payers and practices to apply to participate in the testing of OCM for a 5-year performance period beginning in 2016 (80 FR 8323). In that notice, we stated that payers and practices interested in applying to participate in the testing of OCM must submit non-binding letters of intent (LOIs) by March 19, 2015 and April 23, 2015, respectively; and that all applications from payers and practices must be received by 5:00 p.m. EDT on June 18, 2015. We subsequently extended the deadlines for the submission of LOIs to April 9, 2015 (payers) and May 7, 2015 (practices), as announced on the Innovation Center Web site at (http://innovation.cms.gov/initiatives/Oncology-Care/), in updates to the RFA and related informational materials, and in emails to stakeholders.

II. Provisions of the Notice

Since the publication of the February 17, 2015 notice, several stakeholders have requested additional time to prepare their applications and form partnerships in order to participate in the OCM beginning in 2016. Therefore, the Innovation Center is extending the deadline for receipt of payer and practice applications from June 18, 2015 at 5:00 p.m. Eastern Daylight Time (EDT) to June 30, 2015 at 5:00 p.m. EDT. Only those payers and practices that submitted timely, complete LOIs are eligible to apply to participate in OCM, and only the submission of web-based applications will be accepted. The extended application deadline has already been announced on the Innovation Center Web site at (http://innovation.cms.gov/initiatives/Oncology-Care/), in updates to the RFA and related informational materials, and in emails to stakeholders.

In the DATES section of this notice, we are including the new submission deadline. For additional information on the OCM and how to apply, we refer readers to click on the RFA and related informational materials located on the Innovation Center Web site at http://innovation.cms.gov/initiatives/Oncology-Care/.

III. Collection of Information Requirements

This document does not impose information collection requirements, that is, reporting, recordkeeping or third-party disclosure requirement. Consequently, there is no need for review by the Office of Management and Budget under the authority of the Paperwork Reduction Act of 1995 (44 U.S.C. Chapter 35).

Dated: June 12, 2015.
Andrew M. Slavitt,
Acting Administrator, Centers for Medicare & Medicaid Services.

[FR Doc. 2015-15129 Filed 6-18-15; 8:45 am]

BILLING CODE 4120-01-P